ARCHITECTURAL AND TRANSPORTATION BARRIERS COMPLIANCE BOARD

36 CFR Parts 1190 and 1191

[Docket No. 99-1]

RIN 3014-AA20

Americans With Disabilities Act (ADA) Accessibility Guidelines for Buildings and Facilities; Architectural Barriers Act (ABA) Accessibility Guidelines

AGENCY: Architectural and Transportation Barriers Compliance Board.

ACTION: Availability of draft final guidelines.

SUMMARY: The Architectural and Transportation Barriers Compliance Board (Access Board) has placed in the docket for public review a draft of the final guidelines revising the Americans with Disabilities Act and Architectural Barriers Act Accessibility Guidelines. The Board has placed this document in the docket to inform the building codes community of the actions taken by the Board to promote the harmonization of the Board's guidelines with the International Code Council/American National Standards Institute A117.1 Standard on Accessible and Usable Buildings and Facilities and the International Building Code.

ADDRESSES: The draft final guidelines will be available for inspection at the offices of the Architectural and Transportation Barriers Compliance Board, 1331 F Street NW., suite 1000, Washington, DC 20004-1111 from 9:00 a.m. to 5:00 p.m. on regular business days.

FOR FURTHER INFORMATION CONTACT: Marsha Mazz, Office of Technical and Information Services, Architectural and Transportation Barriers Compliance Board, 1331 F Street, NW., suite 1000, Washington, DC 20004-1111. Telephone number (202) 272-0020 (Voice); (202) 272-0082 (TTY). These are not toll-free numbers. Electronic mail address: mazz@access-board.gov.

SUPPLEMENTARY INFORMATION: On November 16, 1999, the Architectural and Transportation Barriers Compliance Board (Access Board) published a Notice of Proposed Rulemaking to amend the accessibility guidelines for the Americans with Disabilities Act (ADA) of 1990 and the Architectural Barriers Act (ABA) of 1968. 64 FR 62248 (November 16, 1999). The proposed rule was based on recommendations made by the Board's ADAAG Review Advisory Committee. The committee was established in 1994 by the Board to conduct a complete review of the guidelines and to recommend changes. The committee was charged with reviewing ADAAG in its entirety and making recommendations to the Board on:

• Improving the format and usability of ADAAG;

• Reconciling differences between ADAAG and national consensus standards, including model codes and industry standards;

• Updating ADAAG to reflect technological developments and to continue to meet the needs of persons with disabilities; and

• Coordinating future ADAAG revisions with national standards and model code organizations.

The committee recommended significant changes to the format and style of ADAAG. The changes were recommended to provide a guideline that is organized and written in a manner that can be more readily understood, interpreted and applied. The recommended changes would also make the arrangement and format of ADAAG more consistent with model building codes and industry standards.

Subsequent to the committee's recommendations, the 1998 edition of the International Code Council (ICC)/American National Standards Institute (ANSI) A117.1 Standard on Accessible and Usable Buildings and Facilities was published. Its requirements were “harmonized” with the committee's recommendations. An important goal of the Board throughout this rulemaking has been to promote the harmonization of its guidelines and private sector standards.

At its March 13, 2002, meeting, the Access Board decided to place in the rulemaking docket for public review a draft of the guidelines revising the ADA and ABA Accessibility Guidelines. The Board expects to complete action on the final guidelines in the next few months. The final guidelines will then be submitted to the Office of Management and Budget for review in accordance with Executive Order 12866. The Board expects to publish the final guidelines in the Federal Register later this summer.

The Board is not soliciting comments on the draft of the final guidelines, but has placed the document in the docket for public inspection to promote the harmonization of the Board's guidelines with the ICC/ANSI standards and the International Building Code. The ANSI Committee and the International Codes Council are currently in the process of revising the private sector accessibility provisions and proposed changes must be submitted during the Spring of 2002. Without taking this step, an important opportunity would have been missed to harmonize the Board's guidelines with those of the private sector.

Lawrence W. Roffee,
Executive Director.

[FR Doc. 02-7884 Filed 4-1-02; 8:45 am]

BILLING CODE 8150-01-P